U.S.-CHINA ECONOMIC AND SECURITY REVIEW COMMISSION

Notice of Open Meetings To Prepare 2009 Report to Congress

Advisory Committee: U.S.-China Economic and Security Review Commission.

ACTION: Notice of open meetings to prepare 2009 Annual Report to Congress—August 5-6, 2009, September 23-24, 2009, October 7-8, 2009 and October 19-21, 2009 in Washington, DC.

SUMMARY: Notice is hereby given of meetings of the U.S.-China Economic and Security Review Commission.

Name: Carolyn Bartholomew, Chairman of the U.S.-China Economic and Security Review Commission

The Commission is mandated by Congress to investigate, assess, evaluate and report to Congress annually on the U.S.-China economic and security relationship. The mandate specifically charges the Commission to prepare a report to Congress “regarding the national security implications and impact of the bilateral trade and economic relationship between the United States and the People's Republic of China [that] shall include a full analysis, along with conclusions and recommendations for legislative and administrative actions* * *”

Purpose of Meetings: Pursuant to this mandate, the Commission will meet in Washington, DC on August 5-6, September 23-24, 2009, October 7-8, 2009 and October 19-21, 2009 to consider the first and later rounds of drafts of material for its 2009 Annual Report to Congress that have been prepared for its consideration by the Commission staff, and to make modifications to those drafts that Commission members believe are needed.

Topics to be Discussed: The Commissioners will be considering draft report sections addressing the following topics:

• The United States-China trade and economic relationship, including the relationship's current status; significant changes during 2009; the control of China's economy by its government, and the effect of that control on the United States; and China's pharmaceutical industry and impact on U.S.

• The implications of China's industrial policy and the impact of trade with China in central and western New York.

• China's activities directly affecting U.S. security interests, including its expansion of military and security activities abroad, recent naval modernization, and intelligence activities and capabilities.

• China's foreign and regional activities and relationships in East Asia, including those pertaining to Continental Asia, specifically Pakistan and Afghanistan, Taiwan, and to its own special administrative region of Hong Kong.

• China's control of information and its impact on the United States, including China's external propaganda and influence operations, cyber espionage and security, and the extent of freedom of expression within China.

Dates and Times (Eastern Daylight Time):—Wednesday and Thursday, August 5-6, 2009 (10 a.m. to 4 p.m.)

—Wednesday, September 23, 2009 (1 p.m. to 4 p.m.)

—Thursday, September 24, 2009 (10 a.m. to 4 p.m.)

—Wednesday and Thursday, October 7-8, 2009 (10 a.m. to 4 p.m.)

—Monday, Tuesday, and Wednesday, October 19-21, 2009 (10 a.m. to 4 p.m.)

ADDRESSES: All meetings will be held in Conference Room 231 (2nd Floor), except the meetings on August 5 & 6 that will be held in Conference Room 333 (3rd Floor), of The Hall of States located at 444 North Capitol Street, NW., Washington, DC 20001. Public seating is limited and will be available on a “first-come, first-served” basis. Advanced reservations are not required. All participants must register at the front desk of the lobby.

Required Accessibility Statement: The entirety of these Commission editorial and drafting meetings will be open to the public. The Commission may recess the public editorial/drafting meetings to address administrative issues in closed session.

FOR FURTHER INFORMATION CONTACT: Kathy Michels, Associate Director, U.S.-China Economic and Security Review Commission, 444 North Capitol Street NW., Suite 602, Washington, DC 20001; Phone: (202) 624-1409; E-mail: kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: July 29, 2009.
Kathleen J. Michels,
Associate Director, U.S.-China Economic and Security Review Commission.

[FR Doc. E9-18674 Filed 8-4-09; 8:45 am]

BILLING CODE 1137-00-P